DEPARTMENT OF LABOR

Employment and Training Administration

Proposed Collection; Comment Request

ACTION: Notice.

SUMMARY: The Department of Labor, as part of its continuing effort to reduce paperwork and respondent burden, is conducting a preclearance consultation program to provide the general public and Federal agencies with an opportunity to comment on proposed collections of information in accordance with the Paperwork Reduction Act of 1995 (44 U.S.C. 3506(c)(2)(A)). This program helps to ensure that requested data can be provided in the desired format, reporting burden (time and financial resources) is minimized, collection instruments are clearly understood, and the impact of the collection requirements on respondents can be properly assessed. Through this notice, the Employment and Training Administration is soliciting comments concerning a proposed new collection of data on self-services provided by states and local workforce areas under the Workforce Investment Act and Wagner-Peyser.

A copy of the proposed survey can be obtained by contacting the office listed below in the ADDRESSES section of this notice.

DATES: Written comments must be submitted to the office listed in the ADDRESSES section below on or before July 8, 2002.

ADDRESSES: Esther Johnson, U.S. Department of Labor, Employment and Training Administration, Office of Policy and Research, 200 Constitution Ave, NW., Room N-5637, Washington, DC 20210, (202) 693-3165 (this is not a toll free number), ERJOHNSON@doleta.gov.

SUPPLEMENTARY INFORMATION:

I. Background

The Department of Labor's Employment and Training Administration (ETA) seeks to collect data from local workforce investment areas on the self-services they make available under the Workforce Investment Act (WIA) and Wagner-Peyser Act (W-P). The data ETA seeks to collect will provide a national snapshot of the self-service tools and resources available in local workforce areas and the systems and mechanisms that areas use to track customers' usage, outcomes, and satisfaction with those services. The data will also be used to select a sample of states and local areas for subsequent in-depth scrutiny, so that the quality and cost-effectiveness of self-services can be analyzed.

Collecting this information is important because self-services—including informational and self-help core services authorized by WIA and self-directed labor exchange services provided as part of W-P—have become an important feature of the nation's workforce development system. Over the past decade, substantial amounts of resources have been expended in developing the infrastructure to support self-services, such as by establishing physical facilities in which “Resource Rooms” can be housed, developing an array of tools and resources to meet diverse needs, ensuring that these resources are user-friendly and are accessible from remote locations, and promoting access and use for customers with special needs. Moreover, the pace of investments has dramatically quickened since the enactment of WIA. It is expected that self-services must be an essential feature of every one of the nation's comprehensive One-Stop centers. WIA requires that access to these services must be universally available without eligibility restrictions.

Moreover, self-services are expected to play a critical role in meeting the nation's workforce development needs. The vision at the heart of WIA is that all adults should have easy access to an array of high-quality resources and information tools that they can use to make informed career decisions and that, more generally, will improve the efficiency of the labor market. Given WIA's emphasis on universal access and the limited public funding available to support staff-intensive workforce development systems, self-services become a critical means by which this vision can be realized.

Currently, however, little is known about the types of self-service systems that have been established, how frequently customers use self-services and for what purposes, whether they are satisfied with the tools at their disposal, and whether use of these services improves their employment outcomes. This information vacuum occurs partly because users of self-services are not required to become registrants under either WIA or W-P, and these services are thus not covered by the programs' reporting requirements.

To fill the information gap, ETA is embarking on two data collection efforts focused on self-services. One, covered by a previous Federal Register notice (67 FR 2244, January 16, 2002), is designed to yield a national estimate of the number of job seekers who use self-services. A second effort, to which this notice applies, will entail a questionnaire administered to the largest One-Stop operator in each of the nation's local workforce areas to determine the self-service tools and resources they have available and identify which of them have mechanisms in place to track customer usage and outcomes. In addition to being important information in its own right, the results will be used to select a sample of local areas for further scrutiny through site visits (so that the quality of self-services can be assessed), and so that a quantitative analysis of the outcomes associated with self-services can be conducted.

II. Review Focus

The Department of Labor is particularly interested in comments that: (a) Evaluate whether the proposed collection of information is necessary for the proper performance of the functions of the agency, including whether the information has practical utility; (b) evaluate the accuracy of the agency's estimate of the burden of the proposed collection of information; (c) enhance the utility, quality and clarity of the information to be collected; and (d) minimize the burden of the collection of information on those who are to respond, including through the use of appropriate automated, electronic, mechanical, or other technological collection techniques or other forms of information technology.

III. Current Actions

The Department of Labor's Employment and Training Administration will be seeking Office of Management and Budget (OMB) approval to administer a questionnaire to the largest One-Stop operator in each of the nation's local workforce investment areas on the types of self-services they offer and whether they have mechanisms in place to track customers' usage patterns and outcomes. The data will be used to provide a national snapshot of self-service systems and to select a sample of states and local areas for subsequent in-depth study, through site visits and a quantitative analysis of customers' outcomes.

Agency: Employment and Training Administration.

Type of Review: New.

Title: Local Area Survey of Self-Services.

Affected Public: Local workforce investment areas.

Total Respondents: 605.

Frequency: Twice.

Total Responses: 1,210.

Average Time per Response: 30 minutes.

Estimated Total Burden Hours: 605.

Total Burden Cost for Capital and Startup: $0.

Total Burden Cost for Operation and Maintenance: $0.

Comments submitted in response to this comment request will be summarized and/or included in the request for OMB approval of the information collection request; they will also become a matter of public record.

Signed at Washington, DC this 2nd day of May, 2002.
Gerard F. Fiala,
Administrator.

[FR Doc. 02-11385 Filed 5-7-02; 8:45 am]

BILLING CODE 4510-30-M